DEPARTMENT OF STATE

[Public Notice 5905]

U.S. National Commission for UNESCO Notice of Open Teleconference Meeting

SUMMARY: The U.S. National Commission for UNESCO will meet via telephone conference on Thursday, October 4, 2007, from 11 a.m. until 12 p.m. Eastern Time. The purpose of the teleconference meeting is to consider the recommendations of the Commission's World Heritage Tentative List Subcommittee. The Subcommittee was asked to review U.S. applications for the U.S. World Heritage Tentative List. This List will be the basis for U.S. nominations for inscription onto UNESCO's World Heritage List. The recommendations from this discussion will be forwarded from the Department of State to the Department of the Interior. More information on the World Heritage Tentative List process can be found at http://www.nps.gov/oia/topics/worldheritage/tentativelist.htm. The Commission will accept brief oral comments during a portion of this conference call. This public comment period will last 15 minutes, and comments are limited to one minute per person. Please note that the opportunity for extended comments may be made through the next phase of the selection process, when the Department of the Interior will post the draft tentative sites in the Federal Register for an open comment period. Members of the public who wish to present oral comments or to listen to the conference call must make arrangements with the Executive Secretariat of the National Commission by September 27, 2007. For more information or to arrange to participate in the teleconference meeting, contact Alex Zemek, Deputy Executive Director of the U.S. National Commission for UNESCO, Washington, DC 20037. Telephone: (202) 663-0026; Fax: (202) 663-0035; E-mail: DCUNESCO@state.gov.

Susanna Connaughton,
U.S. National Commission for UNESCO, Department of State.

[FR Doc. E7-18365 Filed 9-17-07; 8:45 am]

BILLING CODE 4710-19-P